DEPARTMENT OF AGRICULTURE

Request for Applications; National Agricultural Research, Extension, Education, and Economics (NAREEE) Advisory Board, Citrus Disease Subcommittee (CDS), National Genetic Resources Advisory Council (NGRAC), Specialty Crop Committee (SCC), and Pollinator Subcommittee (PS)

AGENCY: Research, Education, and Economics (REE), United States Department of Agriculture (USDA).

ACTION: Solicit applications for memberships for the NAREEE Advisory Board, Citrus Disease Subcommittee, National Genetic Resource Advisory Council, Specialty Crop Committee, and Pollinator Subcommittee.

SUMMARY: In accordance to the Federal Advisory Committee Act (FACA), as amended, the Research, Education, and Economics (REE), United States Department of Agriculture (USDA) announces the opening of the solicitation for applications to fill vacancies on the National Agricultural Research, Extension, Education, and Economics (NAREEE) Advisory Board and its committees and subcommittees for Fiscal Year 2024 and any vacancies that may occur in this current fiscal year (FY23)—from the date of this notice to September 30, 2023: Citrus Disease Subcommittee (CDS), National Genetic Resources Advisory Council (NGRAC), Specialty Crop Committee (SCC), and Pollinator Subcommittee (PS).

DATES: Visit the NAREEE Advisory Board website: https://nareeeab.ree.usda.gov/ to review a complete list of the Board and committee and subcommittee membership categories. If you wish to be considered for the expiring seats listed in A-D under the SUPPLEMENTARY INFORMATION, applications should be submitted by close of business Eastern Standard Time on Wednesday, May 31, 2023.

Applications for all Board and Committee/Subcommittee membership seats will be received continuously until Friday, December 29, 2023.

Applicant Selection

Applicants will be selected by the Secretary of Agriculture based on how well they meet the required qualifications and the current needs of the Board and its committees/subcommittees. It is anticipated that the members will start serving on the Advisory Board and/or committees/subcommittee beginning of October 2023.

FOR FURTHER INFORMATION CONTACT: Kate Lewis, Executive Director, National Agricultural Research, Extension, Education, and Economics Advisory Board, 1400 Independence Avenue SW, Room 6019 South Building, Washington, DC 20250-2255; email: nareee@usda.gov. NAREEE Advisory Board website: https://nareeeab.ree.usda.gov/.

SUPPLEMENTARY INFORMATION: All board members will receive reimbursement for per diem and travel expenses incurred for attending meetings and/or conducting other business on behalf of the Board/Subcommittee authorized by 5 U.S.C. 5703 of the Federal Travel Regulation for persons employed intermittently in government service.

Individuals may not serve on more than one USDA Federal Advisory Committee. Individuals who are federally registered lobbyists, appointed to committees to exercise their own individual best judgment on behalf of the government (e.g., as Special Government Employees), are ineligible to serve.

All applicants will be carefully reviewed for their relevant experience, expertise, and leadership. Appointed members will serve one-, two-, or three-year terms in order to properly stagger term rotation. All applicants will be vetted before selection. Appointments to the NAREEE Advisory Board and its committees and subcommittees will be made by the Secretary of Agriculture.

Instructions for Nominations/Applications

Application instructions can be found on the NAREEE Advisory Board website: https://nareeeab.ree.usda.gov/applications.

The USDA prohibits discrimination in all of its programs and activities on the basis of “race, color, national origin, religion, sex, (including gender identity and sexual orientation), disability, age, marital status, familial or parental status, income derived from a public assistance program, political beliefs, genetic information, or reprisal or retaliation for prior civil rights activity, in any program or activity conducted or funded by USDA (not all bases apply to all programs).

Equal opportunity practices, in line with USDA policies, will be followed in all membership appointments to the committee. To ensure that the recommendations of the committee have taken into account the needs of the diverse groups served by the Department, membership shall include, to the extent practicable women, and persons with disabilities. USDA is an equal opportunity provider, employer, and lender.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Dated: January 4, 2023.
Cikena Reid,
USDA Committee Management Officer.

[FR Doc. 2023-00461 Filed 1-11-23; 8:45 am]

BILLING CODE 3410-03-P